DEPARTMENT OF EDUCATION

Intent To Compromise Claim Against the State of Oklahoma Department of Education

AGENCY: Department of Education.

ACTION: Notice of intent to compromise claim with request for comments.

SUMMARY: The United States Department of Education (Department) intends to compromise a claim against the Oklahoma Department of Education (Oklahoma) now pending before the Office of Administrative Law Judges (OALJ), Docket No. 07-04-R. Before compromising a claim, the Department must publish its intent to do so in the Federal Register and provide the public an opportunity to comment on that action.

DATES: We must receive your comments on the proposed action on or before March 17, 2011.

ADDRESSES: Address all comments concerning the proposed action to Ronald B. Petracca, Office of the General Counsel, U.S. Department of Education, 400 Maryland Avenue, SW., Room 6E111, Washington, DC 20202-2110.

FOR FURTHER INFORMATION CONTACT: Ronald B. Petracca, Telephone: (202) 401-6008. If you use a telecommunications device for the deaf (TDD), you may call the Federal Information Relay Service (FIRS) at 1-800-877-8339. Individuals with disabilities may obtain this document in an alternative format (e.g., Braille, large print, audio tape, or computer diskette) on request to the contact person listed under FOR FURTHER INFORMATION CONTACT.

SUPPLEMENTARY INFORMATION:

Invitation To Comment

We invite you to submit comments regarding this proposed action. During and after the comment period, you may inspect all public comments in room 6E312, FB-6, 400 Maryland Avenue, SW., Washington, DC, between the hours of 8:30 a.m. and 4 p.m., Eastern time, Monday through Friday of each week except Federal holidays.

Assistance to Individuals With Disabilities in Reviewing Comments

On request, we will supply an appropriate aid, such as a reader or print magnifier, to an individual with a disability who needs assistance to review the comments. If you want to schedule an appointment for this type of aid, please contact the person listed under FOR FURTHER INFORMATION CONTACT.

Background

On December 21, 2006, the Assistant Secretary for Special Education and Rehabilitative Services (Assistant Secretary) issued a final program determination letter (PDL) seeking to recover from Oklahoma $583,943.29 of Part B of the Individuals with Disabilities Education Act (IDEA-B) funds. These funds, based on a finding in a single audit of Oklahoma (Audit Control Number 06-04-58175), were determined by the Assistant Secretary to have been expended, during fiscal year 2003, in violation of the IDEA-B's maintenance of effort requirement set out in 34 CFR 300.230-300.233 (2003).¹ Specifically, the PDL identified 76 LEAs in Oklahoma that violated the maintenance of effort requirement and the amount of that violation for each of those LEAs.

¹ When new regulations for the IDEA-B program were issued in 2006, the maintenance of effort requirements were re-codified at 34 CFR 300.203-300.205.

Oklahoma filed an Application for Review of this PDL with the Office of Administrative Law Judges (OALJ) on February 26, 2007. On April 16, 2007, the OALJ granted the parties Joint Motion to Conduct Voluntary Discovery, Engage in Settlement, Negotiations, and Suspend the Procedural Schedule (Joint Motion). Since this Joint Motion was granted, Oklahoma has presented the Department with extensive documentation and analysis, not available to the Department at the time the PDL was issued, to support its contention that the total level of the maintenance of effort violation was lower than set out in the PDL. On the basis of that documentation the Assistant Secretary, on November 22, 2010, filed a Notice of Reduction of Claim with the OALJ that reduced the claim in this matter from $583,943.29 to $289,501.76.

The Department proposes to compromise this remaining claim to $217,126.32. Based on litigation risks and the costs of proceeding through the administrative and, possibly, court process for this appeal, the Department has determined that it would not be practical or in the public interest to continue this proceeding. In addition, in light of corrective actions Oklahoma has taken, we do not anticipate recurrence of this maintenance of effort violation. As a result, under the authority in 20 U.S.C. 1234a(j), the Department has determined that compromise of this claim for $217,126.32 is appropriate. The public is invited to comment on the Department's intent to compromise this claim. Additional information may be obtained by calling or writing to Ronald B. Petracca at the telephone number and address listed at the beginning of this notice.

Electronic Access to This Document

You may view this document, as well as all other Department of Education documents published in the Federal Register, in text or Adobe Portable Document Format (PDF) on the Internet at the following site: http://frwebgate.access.gpo.gov/cgi-bin/leaving.cgi?from=leavingFR.html&log=linklog&to=http://www.ed.gov/legislation/FedRegister.

To use PDF, you must have Adobe Acrobat Reader, which is available free at this site.

Note: The official version of this document is the document published in the Federal Register. Free Internet access to the official edition of the Federal Register and the Code of Federal Regulations is available on GPO Access at: http://frwebgate.access.gpo.gov/cgi-bin/leaving.cgi?from=leavingFR.html&log=linklog&to=http://www.access.gop.gov/nara/index.html.

Program Authority: 20 U.S.C. 1234a(j).

Delegation of Authority: The Secretary of Education has delegated authority to Thomas Skelly, Director, Budget Service, to perform the functions and duties of the Chief Financial Officer of the Department of Education.

Dated: January 26, 2011.
Thomas Skelly,
Director, Budget Service.

[FR Doc. 2011-2079 Filed 1-28-11; 8:45 am]

BILLING CODE 4000-01-P